FEDERAL COMMUNICATIONS COMMISSION

Open Commission Meeting, Thursday, September 26, 2019

September 19, 2019.

The Federal Communications Commission will hold an Open Meeting on the subjects listed below on Thursday, September 26, 2019, which is scheduled to commence at 10:30 a.m. in Room TW-C305, at 445 12th Street SW, Washington, DC

Item number | Bureau | Subject
1 | Wireline Competition | Title: The Uniendo a Puerto Rico Fund and the Connect USVI Fund (WC Docket No. 18-143); Connect America Fund (WC Docket No. 10-90); and ETC Annual Reports and Certifications (WC Docket No. 14-58). Summary: The Commission will consider a Report and Order that would allocate $950 million in fixed and mobile high-cost universal service support for Stage 2 of the Uniendo a Puerto Rico Fund and the Connect USVI Fund to expand, improve, and harden communications networks in Puerto Rico and the U.S. Virgin Islands. The Commission will also consider an Order on Reconsideration that would dispose of two petitions related to Uniendo a Puerto Rico Fund and Connect USVI Fund advance support and Stage 1 support.
2 | Wireline Competition | Title: Updating the Intercarrier Compensation Regime to Eliminate Access Arbitrage (WC Docket No. 18-155). Summary: The Commission will consider a Report and Order and Modification of Section 214 Authorizations that would adopt reforms to eliminate wasteful access arbitrage schemes and promote the efficient use of the nation's communications networks.
3 | Wireless Tele-Communications and Office of Economics & Analytics | Title:Auction of Priority Access Licenses for the 3550-3650 MHz Band; Comment Sought on Competitive Bidding Procedures for Auction 105; Bidding in Auction 105 Scheduled to Begin June 25, 2020 (AU Docket No. 19-244). Summary: The Commission will consider a Public Notice that would seek comment on procedures to be used for Auction 105, the auction of Priority Access Licenses (PALs) in the 3550-3650 MHz band.
4 | Media | Title: Amendment of Section 73.3580 of the Commission's Rules Regarding Public Notice of the Filing of Applications (MB Docket No. 17-264); Modernization of Media Regulation Initiative (MB Docket No. 17-105); and Revision of the Public Notice Requirements of Section 73.3580 (MB Docket No. 05-6). Summary: The Commission will consider a Further Notice of Proposed Rulemaking that would propose to modernize and simplify the written and on-air public notices broadcasters must provide upon the filing of certain applications.
5 | International | Title: Amendment of the Commission's Policies and Rules for Processing Applications in the Direct Broadcast Satellite Service (IB Docket No. 06-160). Summary: The Commission will consider a Report and Order that would align the Direct Broadcast Satellite licensing procedures with those of the geostationary orbit fixed-satellite service satellites.

The meeting site is fully accessible to people using wheelchairs or other mobility aids. Sign language interpreters, open captioning, and assistive listening devices will be provided on site. Other reasonable accommodations for people with disabilities are available upon request. In your request, include a description of the accommodation you will need and a way we can contact you if we need more information. Last minute requests will be accepted but may be impossible to fill. Send an email to: fcc504@fcc.gov or call the Consumer & Governmental Affairs Bureau at 202-418-0530 (voice), 202-418-0432 (TTY).

Additional information concerning this meeting may be obtained from the Office of Media Relations, (202) 418-0500; TTY 1-888-835-5322. Audio/Video coverage of the meeting will be broadcast live with open captioning over the internet from the FCC Live web page at www.fcc.gov/live.

Federal Communications Commission.
Katura Jackson,
Federal Register Liaison Officer, Office of the Secretary.

[FR Doc. 2019-21022 Filed 9-26-19; 8:45 am]

BILLING CODE 6712-01-P